ENVIRONMENTAL PROTECTION AGENCY

[EPA-HQ-OAR-2014-0410; FRL-9911-98-OAR]

Greenhouse Gas Reporting Program: Publication of Aggregated Greenhouse Gas Data

AGENCY: Environmental Protection Agency.

ACTION: Notice.

SUMMARY: The Environmental Protection Agency (EPA) intends to publish aggregated versions of certain data collected under the Greenhouse Gas Reporting Program, including totals, averages, and other aggregated versions of data submitted by individual reporters. The data that we intend to aggregate were determined in previous rulemakings to be confidential business information in their original, non-aggregated form. This notice describes the criteria we plan to use to determine whether confidential data are sufficiently aggregated such that publishing them would provide useful information while protecting the data that are entitled to confidentiality. In a memorandum to the docket for this notice, we also provide a list of data elements that we have identified for possible future publication in aggregated form if they meet the final version of these criteria.

DATES: Comments. Comments must be received on or before July 9, 2014.

Public Hearing. The EPA does not plan to conduct a public hearing unless requested. To request a hearing, please contact the person listed in the following FOR FURTHER INFORMATION CONTACT section by June 16, 2014. If requested, the hearing will be conducted on June 24, 2014 in the Washington, DC area. The EPA will provide further information about the hearing on the Greenhouse Gas Reporting Rule Web site, http://www.epa.gov/ghgreporting/index.html if a hearing is requested.

ADDRESSES: You may submit your comments, identified by docket ID No. EPA-HQ-OAR-2014-0410, by any of the following methods:

• Federal eRulemaking Portal: http://www.regulations.gov. Follow the online instructions for submitting comments.

• Email: A-and-R-Docket@epa.gov. Include docket ID No. EPA-HQ-OAR-2014-0410 [and/or RIN number] in the subject line of the message.

• Fax: (202) 566-9744.

• Mail: Environmental Protection Agency, EPA Docket Center (EPA/DC), Mailcode 28221T, Attention Docket ID No. OAR-2014-0410, 1200 Pennsylvania Avenue NW., Washington, DC 20460.

• Hand/Courier Delivery: EPA Docket Center, Room 3334, EPA WJC West Building, 1301 Constitution Avenue NW., Washington, DC 20004. Such deliveries are accepted only during the Docket's normal hours of operation, and special arrangements should be made for deliveries of boxed information.

Instructions: Direct your comments to Docket ID No. EPA-HQ-OAR-2014-0410. The EPA's policy is that all comments received will be included in the public docket without change and may be made available online at http://www.regulations.gov, including any personal information provided, unless the comment includes information claimed to be confidential business information (CBI) or other information whose disclosure is restricted by statute. Do not submit information that you consider to be CBI or otherwise protected through http://www.regulations.gov or email. The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the http://www.regulations.gov index. Although listed in the index, some information is not publicly available (e.g., CBI or other information whose disclosure is restricted by statute). Certain other material, such as copyrighted material, will be publicly available only in hard copy. Publicly available docket materials are available either electronically in http://www.regulations.gov or in hard copy at the Air Docket, EPA/DC, Room 3334, EPA WJC West Building, 1301 Constitution Ave. NW., Washington, DC.

This Docket Facility is open from 8:30 a.m. to 4:30 p.m., Monday through Friday, excluding legal holidays. The telephone number for the Public Reading Room is (202) 566-1744, and the telephone number for the Air Docket is (202) 566-1742.

FOR FURTHER INFORMATION CONTACT: Carole Cook, Climate Change Division, Office of Atmospheric Programs (MC-6207J), Environmental Protection Agency, 1200 Pennsylvania Ave. NW., Washington, DC 20460; telephone number: (202) 343-9263; fax number: (202) 343-2342; email address: GHGReporting@epa.gov. For technical information, please go to the Greenhouse Gas Reporting Rule Program Web site http://www.epa.gov/climatechange/emissions/ghgrulemaking.html. To submit a question, select Rule Help Center, followed by “Contact Us.”

SUPPLEMENTARY INFORMATION: Worldwide Web (WWW). In addition to being available in the docket, an electronic copy of today's notice will also be available through the WWW. Following the Director's signature, a copy of this action will be posted on EPA's greenhouse gas reporting rule Web site at http://www.epa.gov/climatechange/emissions/ghgrulemaking.html.

Organization of This Document. The following outline is provided to aid in locating information in this preamble.

I. General Information

A. Does this notice apply to me?

B. How can I get copies of this document and other related information?

C. What should I consider as I prepare my comments to the EPA?

II. Background and Purpose of Notice

III. Description of Rationale and Criteria for Data Aggregation

A. Rationale for CBI Data Aggregation

B. Criteria for Data Aggregation and Publication

C. Data Elements Proposed for Aggregation and Publication

D. Data Publication Process and Availability

E. Request for Comments

I. General Information

A. Does this notice apply to me?

This notice is directed to the general public. However, this action may be of particular interest to parties subject to the requirements of 40 CFR part 98. If you have further questions regarding the applicability of this action to a particular party, please contact the person listed in the FOR FURTHER INFORMATION CONTACT section.

B. How can I get copies of this document and other related information?

1. Electronically

The EPA has included a public docket for this Federal Register notice under Docket EPA-HQ-OAR-2014-0410. All documents in the docket are identified in the docket index available at http://www.regulations.gov. Although listed in the index, some information is not publicly available, such as CBI or other information for which disclosure is restricted by statute. Certain materials, such as copyrighted material, will be available only in hard copy at the EPA Docket Center.

2. EPA Docket Center

Materials listed under Docket EPA-HQ-OAR-2014-0410 will be available for public viewing at http://www.regulations.gov and at the EPA Docket Center (EPA/DC), Room 3334, EPA WJC West Building, 1301 Constitution Avenue NW., Washington, DC 20004. The EPA Docket Center Public Reading Room is open from 8:30 a.m. to 4:30 p.m., Monday through Friday, excluding legal holidays. The telephone number for the Reading Room is (202) 566-1744, and the telephone number for the Air Docket is (202) 566-1742.

C. What should I consider as I prepare my comments to the EPA?

1. Submitting CBI in Response to This Notice

Clearly mark the part or all of the comments that you claim to be CBI submitted in response to this notice. For CBI information in a disk or CD ROM that you mail to the EPA, mark the outside of the disk or CD ROM as CBI and then identify electronically within the disk or CD ROM the specific information that is claimed as CBI. In addition to one complete version of the comment that includes information claimed as CBI, submit a copy of the comment that does not contain the information claimed as CBI for inclusion in the public docket. Information marked as CBI will not be disclosed except in accordance with procedures set forth in 40 CFR part 2.

Do not submit information that you consider to be CBI or otherwise protected through http://www.regulations.gov or email. Send or deliver information identified as CBI to only the mail or hand/courier delivery address listed above, attention: Docket ID No. EPA-HQ-OAR-2014-0410.

If you have any questions about CBI or the procedures for claiming CBI, please consult the person identified in the FOR FURTHER INFORMATION CONTACT section.

2. Tips for Preparing Your Comments

Follow directions. The EPA may ask you to respond to specific questions or organize comments by referencing a CFR part or section number. Explain why you agree or disagree and suggest alternatives for your requested changes. Describe any assumptions and provide any technical information and or data that you used. Provide specific examples to illustrate your concerns and suggest alternatives. Explain your views as clearly as possible, avoiding the use of profanity or personal threats.

Make sure to submit your information and comments by the comment period deadline identified in the preceding section titled DATES. To ensure proper receipt by the EPA, be sure to identify this notice by the docket ID number assigned to this action in the subject line on the first page of your response. You may also provide the name, date, and Federal Register citation.

II. Background and Purpose of Notice

Background. The EPA's Office of Atmospheric Programs (OAP) has responsibility for protecting public health and the environment by addressing climate change, protecting the ozone layer, and improving regional air quality. In response to the FY2008 Consolidated Appropriations Act (H.R. 2764; Pub. L. 110-161), the EPA created the Greenhouse Gas Reporting Program (GHGRP), 40 CFR part 98 (Part 98), which requires reporting of greenhouse gas (GHG) data and other relevant information from large sources and suppliers in the United States. The purpose of Part 98 is to collect accurate and timely GHG data to inform future policy decisions.

Through a series of rulemaking actions, the EPA determined which categories of data elements meet the statutory and regulatory criteria for protection as CBI. For information on the history of confidentiality determinations for Part 98 data elements, see the following notices:

• 75 FR 39094, July 7, 2010. Described the EPA's intent to make categorical CBI determinations for Part 98 data and proposed data categories for the Part 98 data elements.

• 76 FR 30782, May 26, 2011. Assigned data elements to data categories and published the final CBI determinations for the data elements to be reported under 34 Part 98 subparts, except for those data elements that were assigned to the “Inputs to Emission Equations” data category. Finalized amendments to 40 CFR part 2 governing CBI obtained under Part 98 that allow the EPA to release or withhold data elements according to final categorical confidentiality determinations.

• 77 FR 48072, August 13, 2012. Finalized confidentiality determinations for data elements to be reported under nine subparts, except for those data elements that were assigned to the “Inputs to Emission Equations” data category, and finalized confidentiality determinations for new data elements recently added to two subparts.

• 77 FR 51477, August 24, 2012. Finalized confidentiality determinations for new data elements added to subpart L.

• 78 FR 68162, November 13, 2013. Finalized confidentiality determinations for new or substantially revised data elements in this rule for subpart I.

• 78 FR 71904, November 29, 2013. Finalized confidentiality determinations for new or substantially revised data elements in this rule for 15 subparts.

Data elements determined to be CBI are handled in accordance with the EPA's regulations in 40 CFR part 2, subpart B, and with EPA procedures that are consistent with those regulations.

Purpose. The EPA seeks to publish aggregated versions of data that were previously determined by regulation to be CBI when reported by individual facilities and suppliers, as described in the Background section above. The EPA plans to use the aggregated data in developing the Inventory of U.S. Greenhouse Gas Emissions and Sinks (Inventory) that the EPA compiles annually as well as for other purposes. The purpose of this notice is twofold: 1) to describe and seek comment on the overarching criteria that EPA plans to use to evaluate whether data that have been determined to be CBI when reported by individual facilities and suppliers are sufficiently aggregated so as not to disclose any underlying confidential data; and 2) to identify (in a memorandum in the docket for this notice) and seek comment on a specific list of data elements that EPA is presently considering for publication in aggregated form. (A memorandum titled “Publication of Certain Aggregated Greenhouse Gas Data,” associated with this Federal Register notice and placed in the docket for this notice, contains this list of data elements.) Although the EPA's CBI regulations do not require us to publish a Federal Register notice or take public comment in advance of publishing aggregated data, we are publishing this notice and requesting comment because we anticipate a high level of stakeholder interest. Section III.A of this notice describes the rationale for publishing these data elements in aggregated form, and Section III.B of this notice describes the criteria we plan to apply to each aggregated value to determine whether it can be published without disclosing any underlying confidential facility-level or supplier-level data. Section III.C describes the data elements that the EPA presently seeks to aggregate. Section III.D describes the process that the EPA will follow for publication of aggregated values, and Section III.E describes the aspects of this notice for which we are seeking comment.

III. Description of Rationale and Criteria for Data Aggregation

A. Rationale for CBI Data Aggregation

The EPA's primary purpose in aggregating GHGRP data is for use in the Inventory. As a party to the United Nations Framework Convention on Climate Change (UNFCCC), the United States participates in ongoing negotiations with the international community to promote global cooperation on climate change. The UNFCCC treaty, ratified by the United States in 1992, sets an overall framework for intergovernmental efforts to address the challenges posed by climate change.¹ As part of its commitment to the UNFCCC, the United States submits the Inventory to the Secretariat of the UNFCCC as an annual reporting requirement.² The Inventory is a comprehensive assessment of U.S. GHG emissions based on national-level data; it is prepared by the EPA's Office of Air and Radiation in coordination with other federal agencies and with consideration of public input.

¹ See: United Nations Framework Convention on Climate Change, 1992. Available at: http://unfccc.int/resource/docs/convkp/conveng.pdf. For more information about the UNFCCC, please refer to: http://www.unfccc.int.

² See: Articles 4 and 12 of the Convention on Climate Change. Parties to the Convention, by ratifying, “shall develop, periodically update, publish and make available . . . national inventories of anthropogenic emissions by sources and removals by sinks of all greenhouse gases not controlled by the Montreal Protocol, using comparable methodologies . . ..”

As described in the preamble of the proposed GHG Reporting Rule (74 FR 16448, April 10, 2009), the GHGRP is intended to supplement and complement existing U.S. government programs related to climate policy and research, including the Inventory. The GHGRP provides data to develop and inform inventories and other U.S. climate programs by advancing the understanding of emission processes from individual facilities and suppliers above certain thresholds. Collected facility-, unit-, and process-level GHG data from the GHGRP provide or help improve the national statistics and emission estimates presented in the Inventory. Aggregation of the GHGRP data described in this notice will support the development and quality assurance/quality control of the Inventory.

As also noted in the preamble of the proposed GHG Reporting Rule (74 FR 16448), the GHGRP was developed, in large part, to collect comprehensive and accurate data to inform future climate policy development and support a range of possible policies and regulations. The EPA described the importance of transparency in informing the public, building public confidence in the data, and ensuring data quality, which support the development of potential future climate policies or programs. The EPA believes that publication of aggregated GHGRP data helps to accomplish all of these goals.

Accordingly, the EPA plans to publish certain data, which previously were determined to be CBI in the non-aggregated form in which they are initially reported, in an aggregated format that we believe no longer qualifies as CBI. As we have noted in other rulemakings (e.g., 75 FR 39094, 77 FR 51477), it is possible to aggregate facility- or supplier-level data in ways that do not disclose any of the underlying CBI data. For example, national production totals can often provide useful and important information to the public without the risk of revealing confidential data about a specific facility or supplier.

The EPA is guided in this process by EPA regulations, federal policies, and executive orders. The EPA's regulations concerning protection of CBI suggest that aggregating this information can shield the underlying confidential information and may be sufficient to protect the reporters of that information from suffering substantial competitive harm.³

³ “In taking actions under this subpart, EPA offices should consider whether it is possible to obtain the affected business's consent to disclosure of useful portions of records while protecting the information which is or may be entitled to confidentiality (e.g., by withholding such portions of a record as would identify a business, or by disclosing data in the form of industry-wide aggregates, multi-year averages or totals, or some similar form).” 40 CFR 2.202(f). Available at: http://www.epa.gov/epafoia1/2202.htm.

Government agencies and industry organizations routinely publish data in an aggregated format as a means of providing important information to the public while maintaining the confidentiality of individual companies. For example, the U.S. Energy Information Administration (EIA) publishes natural gas liquid production data by region or Petroleum Administration for Defense District (PADD) to mask data reported by individual companies.⁴ The Department of Labor's Bureau of Labor Statistics aggregates employment and wage data by county and industry in the Quarterly Census of Employment and Wages,⁵ while suppressing data that would reveal information about individual companies. The Census Bureau requests data from individual respondents in the American Community Survey, which is aggregated to limit the disclosure of information about individual respondents.⁶ The U.S. Geological Survey (USGS) collects minerals data from thousands of mineral industry companies; USGS is required by law to protect proprietary information from unauthorized disclosure but publishes aggregated versions of many of these data sets.⁷

⁴ See: U.S. Energy Information Administration. “Monthly Natural Gas Gross Production Report.” (Mar. 31, 2014). Available at: http://www.eia.gov/oil_gas/natural_gas/data_publications/eia914/eia914.html.

⁵ See: U.S. Department of Labor, Bureau of Labor Statistics. “Quarterly Census of Employment and Wages.” (Mar. 20, 2014) Available at: http://www.bls.gov/cew/.

⁶ See: U.S. Census Bureau. “American Community Survey: Data Suppression.” (Nov. 15, 2013). Available at: http://www.census.gov/acs/www/Downloads/data_documentation/data_suppression/ACSO_Data_Suppression.pdf.

⁷ See: U.S. Geological Survey. “Proprietary Data: How They Are Protected at the U.S. Geological Survey.”

Many industry organizations use this approach as well. For example, the American Petroleum Institute, in coordination with several other industry organizations, collects natural gas liquid production and sales data from its members and publishes the data aggregated to the state and PADD levels.⁸ Additionally, the Air-Conditioning, Heating and Refrigeration Institute, a trade association of equipment, chemical, and component manufacturers, publishes monthly and annual reports of U.S. manufactured shipments of central air conditioning and air-source heat pump systems, among other types of products, aggregated across all of its members.⁹

⁸ See: American Petroleum Institute. “2012 Sales of Natural Gas Liquids and Liquid Refinery Gases.” (Dec. 2013).

⁹ See: Air-Conditioning, Heating & Refrigeration Institute. “Monthly Shipments.” (2013). Available at: http://www.ahrinet.org/monthly+shipments.aspx.

Consistent with this approach, the EPA plans to publish select aggregated Part 98 data at levels that ensure confidentiality of underlying facility- or supplier-level CBI data. To guide us in making these determinations, we have developed the criteria outlined in Section III.B of this preamble for reviewing aggregated values prior to publication.

B. Criteria for Data Aggregation and Publication

The EPA recognizes that careful consideration and review of aggregated values are necessary to ensure that underlying CBI is sufficiently masked. This requires ensuring that the aggregated data do not disclose underlying CBI data or allow the CBI to be computed, back-calculated, or otherwise discerned using other Part 98 data or additional data. To assist with this analysis, the GHGRP has developed a set of criteria to evaluate whether a given aggregation sufficiently masks underlying CBI.

In developing these criteria, the GHGRP reviewed existing, effective criteria, methods, and principles used by other EPA offices and federal agencies that publish aggregated versions of individual companies' confidential or proprietary data, including the USGS's National Minerals Information Center, the Energy Information Administration, and the EPA's Office of Chemical Safety and Pollution Prevention. The criteria that the EPA has developed for publishing aggregated GHGRP data are comparable in their rigor to the criteria or principles used by these programs.

Consistent with these goals, we have considered methods for the EPA to publish aggregated versions of GHGRP data elements that are not likely to cause substantial competitive harm and that do not disclose the underlying facility- or supplier-level CBI.

1. Criteria for Aggregating Data at the National or Regional Level

The GHGRP has established overarching criteria that we plan to use to determine under what circumstances it is appropriate to publish aggregated data. The EPA plans to apply these criteria to the specific list of data elements included in the memorandum titled “Publication of Certain Aggregated Greenhouse Gas Data” associated with this Federal Register notice and to future data aggregation efforts. Over time, the EPA may identify additional data that would be useful to publish, and plans to use these criteria as a basis for this aggregation.

To determine whether a particular data element aggregated at the national or regional level may be published without risk of disclosing any facility- or supplier-level CBI, the EPA intends to assess the data aggregation according to the following criteria. In line with the other programs and offices described above, the EPA has determined that if the data element aggregated at the national or regional level meets all four criteria, then the data may be published without disclosing underlying CBI.

1a. The data used to calculate the aggregated value must be reported by at least three separate facilities or suppliers that have no common ownership or operator.

2a. No single owner or operator can contribute more than x percent to a particular aggregated value. (The EPA will not disclose the value of x.)

3a. No two owners or operators can contribute more than y percent of a particular aggregated value. (The EPA will not disclose the value of y.)

4a. No underlying facility- or supplier-level CBI can be back-calculated or otherwise determined using the aggregated value in combination with other publicly available data, including any facility-, supplier-, regional-, or national-level data published by the GHGRP or any other data likely to be available to owners or operators.

The EPA will publish only aggregated values that meet all four criteria. Combined, the criteria ensure that publishing aggregated values that meet the criteria would not inadvertently disclose facility- or supplier-level CBI. For example, if five facilities reported a particular data element and one company has part or total ownership of four of the five facilities, criterion 1a would not be met and the EPA would not release the aggregated value. Similarly, if the data reported by one or two companies comprise the vast majority (greater than the value of x or y described above, respectively) of the aggregated value reported, then criteria 2a and 3a would not be met and the EPA would not release the aggregated data. Finally, if other public data could be used in combination with the aggregated value to calculate or otherwise estimate CBI reported by a facility or supplier, criterion 4a would not be met. For example, if a data element is aggregated by region and all but one regional aggregation meet the criteria, publishing the values from all of the other regions would allow the data for the final region to be back-calculated if the national total is also published. In this case, the EPA would withhold data from at least one other region.

The values selected for x and y in criteria 2a and 3a above will be sufficient to ensure protection for the CBI reported by individual facilities and suppliers. As stated in the above criteria, we do not plan to make public the values of x and y. The EPA has determined that releasing these values could in certain circumstances provide a reporting company with insight into the CBI reported by competitors. For example, the data reported by one company that is dominant in its market may be slightly above the percentage threshold for criterion 2a (the x value) in a certain reporting year but below the threshold in a subsequent reporting year. In such situations, the EPA would not publish the aggregated value for the first reporting year, but may choose to publish the aggregated value in subsequent reporting years (provided all other criteria are met). If the EPA disclosed the value of x, competitors would know that the dominant company's share of that data element decreased and the dominant company's approximate portion of the aggregated total.

2. Criteria for Aggregating Supplier Data at the Corporate Level in Subparts OO, PP, and QQ

Some individual suppliers that report data under Part 98 subparts OO (Suppliers of Industrial Greenhouse Gases), PP (Suppliers of Carbon Dioxide), and QQ (Importers and Exporters of Fluorinated Greenhouse Gases Contained in Pre-Charged Equipment or Closed-Cell Foams) report data about multiple industrial gases. The EPA intends to aggregate these data, in units of carbon dioxide equivalent, across products or product types at the corporate level to increase transparency by providing the general public with the total potential GHG emissions associated with industrial gases supplied into the economy by each reporting corporation and to provide the ability to track how this quantity changes over time.

The memorandum titled “Publication of Certain Aggregated Greenhouse Gas Data” lists certain subpart OO, PP, and QQ data elements that the EPA may aggregate and publish across multiple products or product types from a single company. As above, the EPA will only aggregate and publish this CBI if the following criteria are met.

1b. The aggregated value includes information from two or more products supplied by the reporter.

2b. No single product can contribute more than z percent of the corporate-level total to a particular aggregated value. (The EPA will not disclose the value of z.)

3b. Publication of the data does not allow for values (from another owner) that do not themselves meet criteria 1b and 2b to be back-calculated from national- or regional-level data aggregations.

4b. If a company reports data on only a single product type (e.g., under subpart QQ), the products within that product type contain different GHGs, different amounts of that GHG per product, or both.

As above, the value selected for z in criterion 2b above will be sufficient to ensure protection for the CBI reported by individual suppliers, and the EPA does not intend to make that value public. For supplier data aggregated at the corporate level, if the data element includes information from only one product supplied by the reporter, then criterion 1b would not be met and the value would not be published. Similarly, if one product supplied comprises more than z percent of the corporate-level total of the aggregated value, then criterion 2b would not be met and the EPA would not publish the aggregated value. If publishing corporate-level data from Owners A and B would allow for the back-calculation of data from Owner C, which would otherwise have been protected because it did not meet criteria 1b and 2b, then criterion 3b would not be met and the EPA would not publish the aggregated value from Owners A and/or B.

C. Data Elements Proposed for Aggregation and Publication

The EPA reviewed the Part 98 data categorized as CBI and has identified a selection of data elements that, in aggregated form, would be used to improve or check the Inventory or otherwise inform policy-makers and the public. To determine whether these data aggregations could be published without disclosing the underlying facility- or supplier-level CBI, we will apply the final version of the criteria described above to each aggregated value. The memorandum titled “Publication of Certain Aggregated Greenhouse Gas Data” associated with this Federal Register notice contains a list of data elements that the EPA is presently considering for aggregation if they meet the final criteria for publication that the EPA adopts after considering comment on this notice. The aggregated values would likely be published on an annual basis, as long as they continue to meet the final criteria. Additional information regarding the publication of data in future years is provided in Section III.D of this notice.

D. Data Publication Process and Availability

The EPA will publish only aggregated versions of data that were previously determined to be CBI in non-aggregated form in accordance with the EPA's CBI regulations at 40 CFR part 2, subpart B. With regard to the overarching criteria described in this notice, the EPA will consider comments received and anticipates publishing the final aggregation criteria. With regard to the specific list of data elements listed in the memorandum titled “Publication of Certain Aggregated Greenhouse Gas Data,” the EPA will consider comments on this notice and evaluate the possible aggregations against the final criteria to determine which of the data elements may be published in aggregated form. The EPA will then individually notify each affected reporter (in writing and in a manner providing confirmation of receipt, as specified under the EPA's CBI regulations at 40 CFR 2.204(e)(1)) about which of that reporter's data elements the EPA intends to aggregate and the intended level of aggregation. The EPA will then give the reporter at least 10 days to file for judicial review, as required under 40 CFR 2.205(f)(2), before we publicly release any aggregated values.

The data elements listed in the memorandum titled “Publication of Certain Aggregated Greenhouse Gas Data” are the data elements that the EPA is presently considering publishing in aggregated form, provided they meet the final aggregation criteria that the EPA adopts. For aggregated values to be published in any future year, the final criteria must be met for the relevant data element(s) for that particular year. In the future, we may find that publication of additional aggregated values would be useful to Inventory compilation, policy-makers, or the public. In that case, we would evaluate the aggregations to determine whether they meet the relevant final criteria, individually notify each affected reporter and wait at least 10 days before releasing the aggregated values, as described above. We would not necessarily publish additional Federal Register notices concerning publication of additional aggregated values.

The EPA plans to make the aggregated Part 98 data available in various formats and sources as appropriate to the data element, including the Inventory, the EPA's Facility Level Information on GreenHouse gases Tool (FLIGHT), the EPA's Envirofacts Web site, and EPA downloadable data files available on the EPA Web site. The published data will not include non-aggregated facility or supplier data that have been categorized as CBI or aggregated values that would reveal underlying facility- or supplier-level CBI.

E. Request for Comments

We are soliciting comment on the rationale and criteria we plan to use to determine which data elements can be aggregated and published without disclosing underlying facility- or supplier-level CBI. If you believe that one or more of the criteria are either too stringent or not stringent enough, provide a detailed explanation of (1) why you believe this to be true and (2) what changes to the proposed criteria should be made or what alternative criteria should be adopted. Providing specific scenarios to illustrate either the effectiveness or ineffectiveness of the criteria would be particularly useful. We are soliciting comments on appropriate values for x, y, and z in criteria 2a, 3a and 2b (including whether these values must be consistent across subparts) and on our intent not to make those values publicly available.

We are also soliciting comments on whether aggregation and publication of the specific data elements identified in the memorandum titled “Publication of Certain Aggregated Greenhouse Gas Data” would disclose underlying CBI or otherwise would likely result in substantial competitive harm to a particular company. Please identify the specific data element and level of aggregation and explain how the public release of that particular value would or would not be likely to result in disclosure of underlying facility- or supplier-level CBI or otherwise cause substantial competitive harm. If you believe that the publication of any of the aggregated data identified in the memorandum associated with this Federal Register notice would be likely to disclose CBI or otherwise cause substantial competitive harm, explain the mechanism by which this would occur. If your concern is that the release of aggregated value for a particular data element would allow competitors to derive the value for an individual facility or supplier, specifically describe the pathway by which this could occur. Describe any unique process or aspect of a facility or supplier that would be revealed if the aggregated value for a specific data element were made publicly available.

If the aggregated value would disclose underlying CBI only when used in combination with other publicly available data, then identify the information you believe could be revealed, describe how it would be calculated or otherwise discerned, explain why you consider the information to be sensitive, describe the competitive harm that its disclosure would be likely to cause, and identify the source of the other data. If the data are physically published, such as in a book, industry trade publication, or federal agency publication, provide the title, volume number (if applicable), author(s), publisher, publication date, frequency of publication, and International Standard Book Number (ISBN), or other identifier. For data published on a Web site, provide the address of the Web site and the date you last visited the Web site and identify the Web site publisher and content author.

We are also interested in comments identifying any publicly available sources of information containing the specific data aggregation in question. Discuss how these aggregated values may be different from or similar to data that are already publicly available. In your comments, please identify the manner and location in which the aggregated value for each specific data element you identify is available, including a citation. If the data are physically published, such as in a book, industry trade publication, or federal agency publication, provide the title, volume number (if applicable), author(s), publisher, publication date, frequency of publication, and ISBN, or other identifier. For data published on a Web site, provide the address of the Web site and the date you last visited the Web site and identify the Web site publisher and content author.

Avoid conclusory and unsubstantiated statements or general assertions regarding potential harm. Please be as specific as possible in your comments and include all information necessary for the EPA to evaluate your comments.

Parties who wish further information about this Federal Register notice or about OAP's aggregation of information designated or claimed as CBI may contact the person listed in the FOR FURTHER INFORMATION CONTACT section.

Dated: June 2, 2014.
Paul Gunning,
Acting Director, Office of Atmospheric Programs.

[FR Doc. 2014-13425 Filed 6-6-14; 8:45 am]

BILLING CODE 6560-50-P